DEPARTMENT OF TRANSPORTATION

Federal Aviation Administration

Seventh Meeting: RTCA Tactical Operations Committee (TOC)

AGENCY: Federal Aviation Administration (FAA), U.S. Department of Transportation (DOT).

ACTION: Seventh meeting notice of RTCA Tactical Operations Committee.

SUMMARY: The FAA is issuing this notice to advise the public of the seventh meeting of the RTCA Tactical Operations Committee.

DATES: The meeting will be held November 20th from 9:00 a.m.-1:00 p.m.

ADDRESSES: This meeting is being held virtually. Any members of the public interested in participating virtually are required to pre-register no later than November 14, 2014 by contacting Trin Mitra via the email tmitra@rtca.org. Please provide the following information:

• Name

• Organization

• Phone number and Email address

FOR FURTHER INFORMATION CONTACT: The RTCA Secretariat, 1150 18th Street NW., Suite 910, Washington, DC 20036, or by telephone at (202) 833-9339, fax at (202) 833-9434, or Web site at http://www.rtca.org or Trin Mitra, TOC Secretary, tmitra@rtca.org, 202-330-0655.

SUPPLEMENTARY INFORMATION: Pursuant to section 10(a)(2) of the Federal Advisory Committee Act (Pub. L. 92-463, 5 U.S.C., App.), notice is hereby given for a meeting of the RTCA Tactical Operations Committee. The agenda will include the following:

November 20th

• Opening of Meeting/Introduction of TOC Members—Co Chairs Jim Bowman and Dale Wright

• Official Statement of Designated Federal Official—Elizabeth Ray

• Approval of September 3, 2014 Meeting Summary

• Kickoff New TOC Tasks

• Status of Existing and Potential TOC Tasks

• Update briefing on TBFM

• Update briefing on NSAAP

• Discussion on UAS/Commercial Space

• Overview of RTCA/IATA Partnership

• Anticipated Issues for TOC consideration and action at the next meeting

• Other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 29th 2014.
Mohannad Dawoud,
Management Analyst, NextGen, Program Oversight and Administration, Federal Aviation Administration.

[FR Doc. 2014-26303 Filed 11-4-14; 8:45 am]

BILLING CODE 4910-13-P